FEDERAL COMMUNICATIONS COMMISSION

47 CFR Part 64

[WC Docket No. 10-191; Report No. 2939]

Internet-Based Telecommunications Relay Service Numbering

AGENCY: Federal Communications Commission.

ACTION: Final rule; petition for reconsideration.

SUMMARY: In this document, a Petition for Reconsideration (Petition) has been filed in the Commission's Rulemaking proceeding concerning rules that govern access to toll-free numbers by users of Internet-based Telecommunications Relay Services (iTRS).

DATES: Oppositions to the Petition must be filed by January 24, 2012. Replies to an opposition must be filed February 3, 2012.

ADDRESSES: Federal Communications Commission, 445 12th Street, SW., Washington, DC 20554.

FOR FURTHER INFORMATION CONTACT: Heather Hendrickson, Wireline Competition Bureau, (202) 418-1580.

SUPPLEMENTARY INFORMATION: This is a summary of the Commission's document, Report No. 2939, released December 23, 2011. The full text of this document is available for viewing and copying in Room CY-B402, 445 12th Street, SW., Washington, DC or may be purchased from the Commission's copy contractor, Best Copy and Printing, Inc. (BCPI) (1-(800) 378-3160). The Commission will not send a copy of this Notice pursuant to the Congressional Review Act, 5 U.S.C. 801(a)(1)(A), because this Notice does not have an impact on any rules of particular applicability.

Subject: Internet-Based Telecommunications Relay Service Numbering, published at 76 FR 59551, September 27, 2011, in WC Docket No. 10-191, and published pursuant to 47 CFR 1.429(e). See 1.4(b)(1) of the Commission's rules (47 CFR 1.4(b)(1)).

Number of Petitions Filed: 1.

Federal Communications Commission.
Marlene H. Dortch,
Secretary, Office of the Secretary, Office of the Managing Director.

[FR Doc. 2012-72 Filed 1-6-12; 8:45 am]

BILLING CODE 6712-01-P